DEPARTMENT OF HEALTH AND HUMAN SERVICES

National Institutes of Health

Eunice Kennedy Shriver National Institute of Child Health and Human Development; Notice of Closed Meetings

Pursuant to section 10(d) of the Federal Advisory Committee Act, as amended (5 U.S.C. App.), notice is hereby given of the following meetings.

The meetings will be closed to the public in accordance with the provisions set forth in section 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Institute of Child Health and Human Development Special Emphasis, Tools for Assessment and Improvement of Neurologic Outcomes.

Date: March 30, 2016.

Time: 1:00 p.m. to 5:00 p.m.

Agenda: To review and evaluate grant applications.

Place: NICHD, 6100 Executive Blvd., Rockville, MD 20892, (Telephone Conference Call).

Contact Person: SATHASIVA B. KANDASAMY, Ph.D., SCIENTIFIC REVIEW ADMINISTRATOR, SCIENTIFIC REVIEW BRANCH, NATIONAL INSTITUTE OF CHILD HEALTH AND HUMAN DEVELOPMENT, 6100 EXECUTIVE BOULEVARD, Room 5B01, BETHESDA, MD 20892-9304, (301) 435-6680, skandasa@mail.nih.gov.

Name of Committee: National Institute of Child Health and Human Development Special Emphasis Panel.

Date: April 1, 2016.

Time: 8:00 a.m. to 5:00 p.m.

Agenda: To review and evaluate grant applications.

Place: Doubletree Hotel Bethesda, (Formerly Holiday Inn Select), 8120 Wisconsin Avenue, Bethesda, MD 20814.

Contact Person: RITA ANAND, Ph.D., SCIENTIFIC REVIEW OFFICER, SCIENTIFIC REVIEW BRANCH, NATIONAL INSTITUTE OF CHILD HEALTH AND HUMAN DEVELOPMENT, NIH, 6100 EXECUTIVE BLVD. ROOM 5B01, BETHESDA, MD 20892, 301-496-1487, anandr@mail.nih.gov.

Name of Committee: National Institute of Child Health and Human Development Special Emphasis Panel.

Date: April 4, 2016.

Time: 9:00 a.m. to 5:00 p.m.

Agenda: To review and evaluate grant applications.

Place: National Institutes of Health, 6100 Executive Boulevard, Rockville, MD 20852, (Telephone Conference Call).

Contact Person: SATHASIVA B. KANDASAMY, Ph.D., SCIENTIFIC REVIEW ADMINISTRATOR, SCIENTIFIC REVIEW BRANCH, NATIONAL INSTITUTE OF CHILD HEALTH AND HUMAN DEVELOPMENT, 6100 EXECUTIVE BOULEVARD, Room 5B01, BETHESDA, MD 20892-9304, (301) 435-6680, skandasa@mail.nih.gov.

Name of Committee: National Institute of Child Health and Human Development Special Emphasis Panel.

Date: April 11-12, 2016.

Time: 8:30 a.m. to 5:00 p.m.

Agenda: To review and evaluate grant applications.

Place: Courtyard by Marriott Chevy Chase, 5520 Wisconsin Avenue, Chevy Chase, MD 20815.

Contact Person: Priscah Mujuru, BSN, DRPH, MPH, COHNS, RN, Scientific Review Officer, Scientific Review Branch, Eunice Kennedy Shriver National Institute of Child Health and Human Development, NIH, 6100 Executive Boulevard, Suite 5B01, Bethesda, MD 20892-7510, 301-435-6908, mujurup@mail.nih.gov.

Name of Committee: National Institute of Child Health and Human Development Special Emphasis Panel.

Date: April 13, 2016.

Time: 9:00 a.m. to 1:00 p.m.

Agenda: To review and evaluate grant applications.

Place: National Institutes of Health, 6100 Executive Boulevard, Rockville, MD 20852, (Telephone Conference Call).

Contact Person: PETER ZELAZOWSKI, Ph.D., SCIENTIFIC REVIEW OFFICER, Scientific Review Branch, Eunice Kennedy Shriver National Institute of Child Health and Human Development, NIH, 6100 Executive Boulevard, Rm. 5B01, Bethesda, MD 20892-7510, 301-435-6902, peter.zelazowski@nih.gov.

Name of Committee: National Institute of Child Health and Human Development Special Emphasis Panel; P2C (Popul CTR) Infrastructure Review Meeting.

Date: April 15, 2016.

Time: 8:00 a.m. to 5:30 p.m.

Agenda: To review and evaluate grant applications.

Place: Residence Inn Bethesda, 7335 Wisconsin Avenue, Bethesda, MD 20814.

Contact Person: CARLA T. WALLS, Ph.D., SCIENTIFIC REVIEW ADMINISTRATOR, SCIENTIFIC REVIEW BRANCH, NATIONAL INSTITUTE OF CHILD HEALTH AND HUMAN DEVELOPMENT, NIH, 6100 EXECUTIVE BLVD., ROOM 5B01, BETHESDA, MD 20892, (301) 435-6898, wallsc@mail.nih.gov.

Name of Committee: National Institute of Child Health and Human Development Special Emphasis Panel; Developmental Biology Bioinformatics Resources.

Date: April 20, 2016.

Time: 1:00 p.m. to 5:00 p.m.

Agenda: To review and evaluate grant applications.

Place: National Institutes of Health, 6100 Executive Boulevard, Rockville, MD 20852, (Telephone Conference Call).

Contact Person: Cathy J. Wedeen, Ph.D., Scientific Review Officer, Scientific Review Branch, Eunice Kennedy Shriver National Institute of Child Health and Human Development, NIH, DHHS, 6100 Executive Blvd., Room 5B01-G, Bethesda, MD 20892, 301-435-6878, wedeenc@mail.nih.gov.

Name of Committee: National Institute of Child Health and Human Development Special Emphasis Panel.

Date: May 3-4, 2016.

Time: 8:30 a.m. to 5:00 p.m.

Agenda: To review and evaluate grant applications.

Place: Hyatt Regency Bethesda, One Bethesda Metro Center, 7400 Wisconsin Avenue, Bethesda, MD 20814.

Contact Person: PETER ZELAZOWSKI, Ph.D., SCIENTIFIC REVIEW OFFICER, Scientific Review Branch, Eunice Kennedy Shriver National Institute of Child Health and Human Development, NIH, 6100 Executive Boulevard, Rm. 5B01, Bethesda, MD 20892-7510, 301-435-6902, peter.zelazowski@nih.gov.

(Catalogue of Federal Domestic Assistance Program Nos. 93.864, Population Research; 93.865, Research for Mothers and Children; 93.929, Center for Medical Rehabilitation Research; 93.209, Contraception and Infertility Loan Repayment Program, National Institutes of Health, HHS)

Dated: March 1, 2016.
Michelle Trout,
Program Analyst, Office of Federal Advisory Committee Policy.

[FR Doc. 2016-04917 Filed 3-4-16; 8:45 am]

BILLING CODE 4140-01-P